NUCLEAR REGULATORY COMMISSION

[NRC-2012-0133]

NRC Form 5, Occupational Dose Record for a Monitoring Period

AGENCY: Nuclear Regulatory Commission.

ACTION: Solicitation of public comment.

SUMMARY: The U.S. Nuclear Regulatory Commission (NRC or the Commission) is seeking public comment on the proposed draft NRC Form 5, “Occupational Dose Record for a Monitoring Period.” The current NRC Form 5 is being revised to align with current regulations. We are required to publish this notice in the Federal Register under the provisions of the Paperwork Reduction Act of 1995 (44 U.S.C. chapter 35).

DATES: Please submit any comments or questions by July 20, 2012.

ADDRESSES: You may access information and comment submissions related to this document, which the NRC possesses and are publically available, by searching on http://www.regulations.gov under Docket ID NRC-2012-0133. You may submit comments by the following methods:

• Federal Rulemaking Web site: Go to http://www.regulations.gov and search for Docket ID NRC-2012-0133. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Doris Lewis, Office of Nuclear Regulatory Research, U.S. Nuclear Regulatory Commission, Washington, DC 20555-0001; telephone: 301-251-7559; email: Doris.Lewis@nrc.gov.

SUPPLEMENTARY INFORMATION:

I. Accessing Information and Submitting Comments

A. Accessing Information

Please refer to Docket ID NRC-2012-0133 when contacting the NRC about the availability of information regarding this document. You may access information related to this document by the following methods:

• Federal Rulemaking Web Site: Go to http://www.regulations.gov and search for Docket ID NRC-2012-0133.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The proposed draft NRC Form 5 can be found electronically under ADAMS Accession No. ML12135A226.

• NRC's PDR: You may examine and purchase copies of public documents at the NRC's PDR, Room O1-F21, One White Flint North, 11555 Rockville Pike, Rockville, Maryland 20852.

B. Submitting Comments

Please include Docket ID NRC-2012-0133 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background

On December 4, 2007 (72 FR 68043), NRC published a Federal Register Notice regarding changes to Title 10 of the Code of Federal Regulations (10 CFR) parts 19, 20 and 50. Specific changes to 10 CFR part 20 included a definition change to the total effective dose equivalent (TEDE), which allowed NRC licensees to use the effective dose equivalent (for external exposures) in place of the deep dose equivalent in determining the TEDE value. Section 20.2206(a) specifies seven categories of licensees that are required to report occupational radiation dose information to the NRC annually and Section 20.2206(b) allows licensees to submit this information in paper format on NRC Form 5, “Occupational Dose Record for a Monitoring Period,” or in an equivalent paper or electronic format. The change to 10 CFR parts 19, 20 and 50 became effective on February 15, 2008. The current NRC Form 5 can be found on NRC's Public Web page, http://www.nrc.gov/reading-rm/doc-collections/forms/nrc5.pdf.

III. Discussion

The NRC staff believes that the current NRC Form 5 should be modified to align with the existing TEDE definition in 10 CFR part 20. To ensure that the NRC is well informed of all of the benefits and burdens associated with revising the current NRC Form 5, the NRC is seeking input from stakeholders regarding the proposed draft NRC Form 5. Specifically, the NRC- and Agreement State-licensees who are required to comply with Section 20.2206(b) or compatible State regulations should submit comments regarding (1) the layout of the proposed draft NRC Form 5, (2) estimated economic costs associated with modifying existing information technology (IT) systems to include the new “Effective Dose Equivalent for External Exposures (EDEX)” field, (3) estimated economic savings associated with calculating EDEX for certain occupational employees, and (4) the clarity of the instructions provided for completing the proposed draft NRC Form 5, specifically concerning the use of EDEX and the new directions for blocks 11a and 11b. Stakeholders and interested parties also may provide other options for the current NRC Form 5, issues with the current NRC Form 5, or other information for NRC's consideration associated with the current NRC Form 5. The NRC staff will use this feedback in developing a new NRC Form 5 and a new NRC Form 4, “Cumulative Occupational Dose History.”

Dated at Rockville, Maryland, this 12th day of June 2012.
For the Nuclear Regulatory Commission.
Stephanie Bush-Goddard,
Chief, Division of Systems Analysis, Office of Nuclear Regulatory Research.

[FR Doc. 2012-14872 Filed 6-18-12; 8:45 am]

BILLING CODE 7590-01-P